DEPARTMENT OF HOMELAND SECURITY

Coast Guard

33 CFR Part 100

[Docket No. USCG-2018-0798]

Special Local Regulation; Olympia Harbor Days Tug Boat Races, Budd Inlet, WA

AGENCY: Coast Guard, DHS.

ACTION: Notice of enforcement of regulation.

SUMMARY: The Coast Guard will enforce Special Local Regulations for the Olympia Harbor Days Tug Boat Races, Budd Inlet, WA, from 11 a.m. through 4 p.m. on September 2, 2018. This action is necessary to limit vessel movement within the specified race area immediately prior to, during, and immediately after racing activity in order to ensure the safety of participants, spectators and the maritime public. Entry into, transit through, mooring, or anchoring within the specified race area is prohibited unless authorized by the Captain of the Port Puget Sound or Designated Representatives.

DATES: The regulations in 33 CFR 100.1309 will be enforced from 11 a.m. through 4 p.m. on September 2, 2018.

FOR FURTHER INFORMATION CONTACT: If you have questions about this notice of enforcement, call or email Petty Officer Zachary Spence, Sector Puget Sound Waterways Management Division, U.S. Coast Guard; telephone 206-217-6051, email SectorPugetSoundWWM@uscg.mil.

SUPPLEMENTARY INFORMATION: The Coast Guard will enforce Special Local Regulations for Olympia Harbor Days Tug Boat Races, Budd Inlet, WA in 33 CFR 100.1309 on September 2, 2018, from 11 a.m. until 4 p.m.

The boundaries of the race area, as specified in 33 CFR 100.1309(a), enclose approximately 2 nautical miles of the navigable waters in Budd Inlet south of Big Tykle Cove to west of Priest Point.

Under the provisions of 33 CFR 100.1309, the regulated area shall be closed immediately prior to, during, and immediately after the event to all persons and vessels not participating in the event and authorized by the event sponsor. This action is necessary to ensure the safety of participants, spectators, and the maritime public. Entry into, transit through, mooring or anchoring within the specified race area is prohibited unless authorized by the Captain of the Port Puget Sound or Designated Representatives. All persons or vessels who desire to enter the race area while it is enforced must obtain permission from the on-scene patrol craft on VHF channel 13.

In addition to this published document, the Coast Guard will provide the maritime community with advance notification of this enforcement period via the Local Notice to Mariners. If the Captain of the Port determines that the regulated area need not be enforced for the full duration stated in this notice, she may use a Broadcast Notice to Mariners to grant general permission to enter the regulated area.

Dated: August 28, 2018.
Linda A. Sturgis,
Captain, U.S. Coast Guard, Captain of the Port Puget Sound.

[FR Doc. 2018-19081 Filed 8-31-18; 8:45 am]

BILLING CODE 9110-04-P